DEPARTMENT OF DEFENSE

Office of the Secretary

32 CFR Part 249

[Docket ID: DOD-2016-OS-0097]

RIN 0790-AI75

Presentation of DoD-Related Scientific and Technical Papers at Meetings

AGENCY: Office of the Under Secretary of Defense for Acquisition, Technology, and Logistics, DoD.

ACTION: Final rule.

SUMMARY: This final rule removes DoD's regulation concerning the presentation of DoD-related scientific and technical papers at meetings. The codified rule is outdated and no longer accurate or applicable as written. The codified rule contains internal guidance relating to how and when DoD scientific and technical papers in the possession or under the control of DoD can be presented at meetings. The rule does not impose obligations on members of the public. Therefore, 32 CFR part 249 can be removed from the CFR.

DATES: This rule is effective on October 20, 2016.

FOR FURTHER INFORMATION CONTACT: Patricia Toppings at 571-372-0485.

SUPPLEMENTARY INFORMATION: DoD internal guidance concerning the presentation of DoD-related scientific and technical papers at meetings will continue to be published in DoD Instruction 5230.27. Once the revision of DoD Instruction 5230.27 is signed, a copy will be made available at http://www.dtic.mil/whs/directives/corres/pdf/523027p.pdf.

It has been determined that publication of this CFR part removal for public comment is impracticable, unnecessary, and contrary to public interest since it is based on removing DoD internal policies and procedures that are publically available on the Department's issuance Web site.

The removal of this rule will be reported in future status updates of DoD's retrospective review plan in accordance with the requirements in Executive Order 13563. DoD's full plan can be accessed at: http://www.regulations.gov/#!docketDetail;D=DOD-2011-OS-0036.

List of Subjects in 32 CFR Part 249

Armed forces, Classified information, Science and technology.

PART 249—[REMOVED]

Accordingly, by the authority of 5 U.S.C. 301, 32 CFR part 249 is removed.

Dated: October 14, 2016.
Aaron Siegel,
Alternate OSD Federal Register Liaison Officer, Department of Defense.

[FR Doc. 2016-25276 Filed 10-19-16; 8:45 am]

BILLING CODE 5001-06-P